GENERAL SERVICES ADMINISTRATION

[FMR Amendment 2005-03, Supplement 1]

Federal Management Regulation; Real Property Policies Update

AGENCY: General Services Administration.

ACTION: Notice.

SUMMARY: This Notice extends the implementation date of Real Property Policies, titled “What standards must facilities subject to the Architectural Barriers Act meet?”, published in the Federal Register at 70 FR 67846, on November 8, 2005. The implementation date of the section, currently May 8, 2006, is hereby extended to August 7, 2006, but only with respect to leasing actions. The May 8, 2006 implementation date remains unchanged with respect to Federal construction or alteration projects. Except as expressly modified by this Notice, all other terms and conditions of the Architectural Barriers Act standards remain in full force and effect.

EFFECTIVE DATE: May 11, 2006.

FOR FURTHER INFORMATION CONTACT: For clarification of content, contact Stanley C. Langfeld, Director, Regulations Management Division (MPR), General Services Administration, Washington, DC 20405; stanley.langfeld@gsa.gov, (202) 501-1737. Please cite FMR Bulletin 2005-03.

Dated: May 5, 2006.
John G. Sindelar
Acting Associate Administrator, Office of Governmentwide Policy.

[FR Doc. E6-7221 Filed 5-10-06; 8:45 am]

BILLING CODE 6820-RH-S